DEPARTMENT OF JUSTICE

[AAG/A Order No. 006-2007]

Privacy Act of 1974; Removal of a System of Records Notice

Pursuant to the provisions of the Privacy Act of 1974 (5 U.S.C. 552a), the Department of Justice (DOJ) is removing the published notice of a Privacy Act system of records: the Deputy Attorney General's (DAG) “Summer Intern Program Records System, JUSTICE/DAG-009,” last published in the Federal Register on October 21, 1985 at 50 FR 42611.

This system notice is unnecessary because the records are adequately covered both by: the Government-wide system of records notice published by the Office of Personnel Management (OPM), “OPM/GOVT-5, Recruiting, Examining, and Placement Records,” last published in the Federal Register on June 19, 2006 at 71 FR 35342, 35351; and the Department of Justice system of records, “DOJ-006, Personnel Investigation and Security Clearance Records for the Department of Justice, ” last published in the Federal Register in full text on September 24, 2002 at 67 FR 59864, and amended in part on November 10, 2004 at 69 FR 65224.

Therefore, the notice of “Summer Intern Program Records System, JUSTICE/DAG-009,” is removed from the Department's listing of Privacy Act systems of records notices, effective on the date of publication of this notice in the Federal Register.

Dated: March 6, 2007.
Lee J. Lofthus,
Assistant Attorney General for Administration.

[FR Doc. E7-4779 Filed 3-14-07; 8:45 am]

BILLING CODE 4410-PB-P